DEPARTMENT OF AGRICULTURE

Agricultural Research Service

Notice of Intent To Seek Approval To Collect Information

AGENCY: Agricultural Research Service, USDA.

ACTION: Notice and request for comments.

SUMMARY: In accordance with the Paperwork Reduction Act of 1995 (Pub. L. No. 04-13) and Office of Management and Budget (OMB) regulations at 5 CFR part 1320 (60 FR 44978, August 29, 1995), this notice announces the Agricultural Research Service's (ARS) intention to seek approval to collect information in support of Beltsville Area Customer services.

DATES: Comments on this notice must be received by May 10, 2002, to be assured of consideration.

ADDRESSES: Address all comments concerning this notice to Sheryl Griffith, Webmaster, ARS Beltsville area, USDA, 10300 Baltimore Avenue, Beltsville, MD 20705.

FOR FURTHER INFORMATION CONTACT: Contact Sheryl Griffith, Webmaster, ARS Beltsville Area USDA, (301) 504-0133.

SUPPLEMENTARY INFORMATION: Title: Web Order Forms for Research Data, Materials, Models, Publications, and Speakers and for Conference, Event, or Study Registration Services.

Type of Request: Approval to collect information needed to provide certain services to ARS Beltsville Area customers.

OMB Number: Not yet assigned.

Expiration Date: N/A.

Abstract: Sections 1703 and 1705 the Government Paperwork Elimination Act (GPEA), Pub. L. 105-277, Title XVII, require agencies, by October 21, 2003, to provide for the option of electronic submission of information by the public. To advance GPEA goals, ARS Beltsville Area needs to provide web forms so that customers may contact us electronically to request services such as: Speakers for eligible organizations; research data, materials, and models; publications; or conference registrations. For the convenience of customers, the forms itemize the information we need to provide a timely response. Information from forms will be used by the agency to provide services requested.

Estimate of Burden: Public reporting burden for this collection of information is estimated to average 3 minutes per response (range: 1-5 minutes).

Respondents: Agricultural researchers, students and teachers, business people participating in the ARS Technology Transfer program, members of service organizations, community groups, other federal and local government agencies, and the general public.

Estimated Number Respondents: 11,450.

Estimated Number of Responses per Respondent: One per request.

Estimated Total Annual Burden on Respondents: 572.5 hours.

Copies of forms used in this information collection can be obtained from Sheryl Griffith, Webmaster, ARS Beltsville Area, at (301) 504-0133.

Comments are invited on: (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through use of appropriate automated, electronic, mechanical or other technological collection techniques or other forms of information technology. Comments may be sent to: Sheryl Griffith, Webmaster, ARS Beltsville Area USDA, 10300 Baltimore Avenue, Beltsville, MD 20705, (301) 504-0133.

All responses to this notice will be summarized and included in the request for OMB approval. All comments will also become a matter of public record.

Dated: March 18, 2002.
Edward B. Knipling,
Acting Administrator, ARS.

[FR Doc. 02-8720 Filed 4-9-02; 8:45 am]

BILLING CODE 3410-03-P